DEPARTMENT OF JUSTICE

Office of Justice Programs

Agency Information Collection Activities: Proposed Collection; Comment Request

ACTION: 30-day notice of information collection under review: reinstatement, with change, of a previously approved collection for which approval has expired; annual survey of jails.

The Department of Justice, Office of Justice Programs, Bureau of Justice Statistics, has submitted the following information collection requires for review and clearance in accordance with the Paperwork Reduction Act of 1995. Office of Management and Budget approval is being sought for the information collection listed below. This proposed collection was previously published in the Federal Register on January 4, 2002, Volume 67, page 609, allowing for a 60-day public comment period.

The purpose of this notice is to allow an additional 30 days for public comment until May 1, 2002. This process is conducted in accordance with 5 CFR 1320.10.

Written comments and/or suggestions regarding the item(s) contained in this notice, especially regarding the estimated public burden and associated response time, should be directed to the Office of Information and Regulatory Affairs, Attention: Department of Justice Desk Officer, Washington, DC 20530. Additionally, comments may be submitted to OMB via facsimile to (202) 395-7285.

Written comments and/or suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic mechanical, or other technological collection techniques or other forms of information technology, e.g., permitting electronic submissions of responses.

Overview of this information collection:

(1) Type of information Collection: Reinstatement, with change, of a previously approved collection for which approval has expired.

(2) Title of the Form/Collection: Annual Survey of Jails.

(3) Agency form number, if any, and the applicable component of the Department of Justice sponsoring the collection: Forms: CJ-5, CJ-5A, CJ-5B. Correction Statistics, Bureau of Justice Statistics, Office of Justice Programs, United States Department of Justice.

(4) Affected public who will be asked or required to respond, as well as a brief abstract: Primary: County and City jail authorities and Tribal authorities. The “Annual Survey of Jails” (ASJ) is the only collection effort that provides an ability to maintain important jail statistics in years between jail censuses. The ASJ enables the Bureau; Federal, State, and local correctional administrators; legislators; researchers; and planners to track growth in the number of jails and their capacities nationally; as well as, track changes in the demographic and supervision status of jail population and the prevalence of crowding.

(5) An estimate of the total number of respondents and the amount of time estimated for an average respondent to respond: 946 respondents at 1.25 hours per response.

(6) An estimate of the total public burden (in hours) associated with the collection: Total annual burden hours are 1,183.

If additional information is required, please contact Mrs. Brenda E. Dyer, Deputy Clearance Officer, United States Department of Justice, Information Management and Security Staff, Justice Management Division, Suite 1600, 601 D Street, NW., Washington, DC 20530.

Dated: March 26, 2002.
Brenda E. Dyer,
Department Deputy Clearance Officer, United States Department of Justice.

[FR Doc. 02-7755 Filed 3-29-02; 8:45 am]

BILLING CODE 4410-18-M